DEPARTMENT OF TRANSPORTATION

Pipeline and Hazardous Materials Safety Administration

Hazardous Materials: Notice of Applications for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 30, 2016.

ADDRESS COMMENTS TO: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on August 15, 2016.
Donald Burger,
Chief, Office of the Special Permits.

Application No. | Docket No. | Applicant | Regulation(s) affected | Nature of the special permits thereof
SPECIAL PERMITS DATA
20279-N |  | Aladdin Fire Protection | 180.207(d)(1) | To authorize the use of hydrostatic volumetric expansion testing in lieu of ultrasonic emissions testing for UN ISO 9809ndash;2 cylinders exceeding 950 MPa. (modes 1, 2, 3, 4, 5)
20283-N |  | LG CHEM | 172.101(j) | To authorize the transportation in commerce of lithium ion batteries exceeding the 35 Kg maximum weight authorized for transportation by cargo aircraft. (mode 4)
20285-N |  | Kinross EMS | 173.196 | To authorize the transportation of Category A infectious substances in non-DOT specification packaging following the transportation of a patient diagnosed with an infectious disease. (mode 1)
20287-N |  | Linde LLC | 172.203(a), 172.302(c), 180.205(c), 180.209(a), 180.209(b), 180.209(b)(iv) | To authorize certain cylinders to be ultrasonically tested at least once every ten years. (modes 1, 2, 3)
20288-N |  | U.S. Army CE-LCMC | 175.10 (a)(18)(ii) | To authorize the transportation of lithium ion batteries in carry-on luggage with a Watt-hour rating greater than 100 Wh. (mode 5)
20289-N |  | FDC Composites Inc | 173.242 | To authorize the manufacture, mark, sale, and use of non-DOT specification glass fiber reinforced plastic (GFRP) cargo tank conforming with all applicable requirements for DOT specification 412/407 cargo tanks, except as specified herein. (mode 1)
20290-N |  | LG CHEM | 172.101(j) | To authorize the transportation of lithium ion batteries exceed the 35 kg weight limitation on cargo aircraft. (mode 4)
20291-N |  | Board of Regents of the University of Nebraska | 171.2(k) | To authorize the transportation in commerce of packages of non-hazardous material identified as Category A infectious substances for purposes of shipping and packaging drills. (mode 1)
20292-N |  | Nuance Systems LLC | 173.302(a), 173.181, 178.35(b), 178.35(b)(1), 178.35(c), 178.50(a), 178.50(d)(2) | To authorize the manufacture, marking sale and use of a non-DOT specification cylinder for the transportation of pyrophoric materials. (modes 1, 2, 3)
20293-N |  | LG CHEM | 173.185(a) | To authorize the transportation in commerce of prototype lithium ion batteries by cargo-only aircraft. (mode 4)
20294-N |  | The Dow Chemical Company | 172.23(a), 172.302(c), 180.605(h)(3) | To authorize a 5 year periodic pressure test on UN portable tanks used in the transport of a Division 4.3 material to be performed with mineral oil rather than with water. (modes 1, 2, 3)
20297-N |  | Codysales Inc | 173.302a(b), 172.203(a), 172.301(c), 180.205 | To authorize the use of certain DOT specification 3A, 3AA, 3AL, SP9001, SP9370, SP9421, SP9706, SP9791, SP9909, SP10047, SP10869, SP11692, SP12440 cylinders used for the transportation in commerce of certain compressed gases, when retested by a 100% ultrasonic examination in lieu of the internal visual and the hydrostatic retest required in 49 CFR 180.205. (modes 1,2,3,4,5)
20301-N |  | Tesla Motors, Inc | 173.185(a) | To authorize the transportation in commerce of prototype lithium ion batteries via cargo aircraft. (mode 4)
20302-N |  | Tesla Motors, Inc | 173.220(d) | To authorize the transportation in commerce of vehicles containing prototype lithium ion batteries via cargo-only aircraft and cargo vessel. (modes 3, 4)
20303-N |  | Faraday & Future Inc | 173.185(a), 173.220(d) | To authorize the transportation of prototype and low production lithium ion batteries, and vehicles containing these batteries, via cargo-only aircraft. (mode 4)
20305-N |  | Atlas Air, Inc | 173.27(b)(2), 173.27(b)(3), 172.204(c)(3), 175.30(a)(1) | To authorize the transportation in commerce of certain explosives by cargo aircraft only, which are otherwise forbidden. (mode 4)
20306-N |  | Avantor Performance Materials International, Inc. | 173.158(e) | To authorize the transportation in commerce of nitric acid in fiberboard outer packagings without the use of intermediate packaging or absorbent material. (modes 1, 2, 3)

[FR Doc. 2016-20592 Filed 8-30-16; 8:45 am]

BILLING CODE 4910-60-M